DEPARTMENT OF HEALTH AND HUMAN SERVICES

Food and Drug Administration

[Docket No. FDA-2009-N-0667]

[FDA 225-09-0010]

Memorandum of Understanding With Duke University

AGENCY: Food and Drug Administration, HHS.

ACTION: Notice.

SUMMARY: The Food and Drug Administration (FDA) is providing notice of a memorandum of understanding (MOU) between the Food and Drug Administration and Duke University. The purpose of this MOU is to establish a framework for collaboration between the Parties and for pursuing specific collaborative projects. This collaboration between the Parties shall be known as the Cardiac Safety Research Consortium.

DATES: The agreement became effective August 4, 2009.

FOR FURTHER INFORMATION CONTACT: Wendy R. Sanhai, Office of the Commissioner (HZ-1), Food and Drug Administration, 5600 Fishers Lane, Rockville, MD 20857, 301-827-7867, FAX: 301-827-5891.

SUPPLEMENTARY INFORMATION: In accordance with 21 CFR 20.108(c), which states that all written agreements and MOUs between FDA and others shall be published in the Federal Register, the agency is publishing notice of this MOU.

Dated: August 31, 2009.
David Horowitz,
Assitant Commissioner for Policy.

BILLING CODE 4160-01-S

[FR Doc. E9-22001 Filed 9-11-09; 8:45 am]

BILLING CODE 4160-01-C